FEDERAL COMMUNICATIONS COMMISSION

47 CFR Part 79

[CG Docket No. 05-231; DA 10-253]

Closed Captioning of Video Programming

AGENCY: Federal Communications Commission.

ACTION: Final rule; waiver of requirements.

SUMMARY: In this document, the Commission, via the Consumer and Governmental Affairs Bureau (Bureau), waives in part the requirement that video programming distributors (VPDs) place contact information for the pursuit of immediate closed captioning concerns and the filing of closed captioning complaints in telephone directories. Some VPDs do not use telephone directories to communicate with the public, and therefore the Bureau waives the rule in such situations, so long as the VPD makes the contact information available on its Web site or on billing statements. The waiver thus balances the goal of ensuring that consumers are readily able to locate VPD contact information, with preventing unduly burdensome compliance with the telephone directories provisions for VPDs that do not use telephone directories to communicate with the public.

DATES: This document is October 4, 2010. The provision in 47 CFR 79.1(i)(1) and (2), published at 74 FR 1594, January 13, 2009, requiring video programming distributors to place contact information required by this section in local telephone directories is waived beginning February 19, 2010, for certain video programming distributors. FCC will publish a document in the Federal Register to lift the waiver.

FOR FURTHER INFORMATION CONTACT: Amelia Brown, Consumer and Governmental Affairs Bureau, Disability Rights Office at (202) 418-2799 (voice), (202) 418-7804 (TTY), or e-mail at Amelia.Brown@fcc.gov.

SUPPLEMENTARY INFORMATION: This is a summary of the Bureau's Order, DA 10-253, Closed Captioning of Video Programming, CG Docket No. 05-231, adopted February 16, 2010, and released February 16, 2010. The full text of DA 10-253 and copies of any subsequently filed documents in this matter will be available for public inspection and copying during regular business hours at the FCC Reference Information Center, Portals II, 445 12th Street, SW., Room CY-A257, Washington, DC 20554. DA 10-253 and copies of subsequently filed documents in this matter also may be purchased from the Commission's duplicating contractor at Portals II, 445 12th Street, SW., Room CY-B402, Washington, DC 20554. Customers may contact the Commission's duplicating contractor at its Web site http://www.bcpiweb.com or by calling 1-800-378-3160.

To request materials in accessible formats for people with disabilities (Braille, large print, electronic files, audio format), send an e-mail to fcc504@fcc.gov or call the Consumer and Governmental Affairs Bureau at (202) 418-0530 (voice) or (202) 418-0432 (TTY). DA 10-253 also can be downloaded in Word or Portable Document Format (PDF) at: http://www.fcc.gov/cgb/dro/caption.html.

Synopsis

1. On November 7, 2008, the Commission released Closed Captioning of Video Programming, Closed Captioning Requirements for Digital Television Receivers, CG Docket No. 05-231, ET Docket No. 99-254, Declaratory Ruling, Order, and Notice of Proposed Rulemaking, FCC 08-255, (2008 Closed Captioning Order), published at 74 FR 1594, January 13, 2009, which, among other things, requires VPDs to make available two types of contact information—information for the receipt and handling of immediate closed captioning concerns by consumers, and information for written closed captioning complaints. The Commission directed VPDs to include this information on their Web sites, if the VPD has a Web site, in telephone directories, and in billing statements, if the VPD issues billing statements to subscribers. DISH Network L.L.C., a national provider of direct broadcast satellite service, petitioned the Commission for relief from the obligation to place contact information in telephone directories, stating that it does not currently directly advertise or otherwise place commercial listings in local telephone directories, and does not have direct relationships with publishers of local telephone directories. DISH Network requested that the Bureau clarify that a VPD is not required to place advertisements or listings in telephone directories in order to provide closed captioning information if the VPD does not otherwise use telephone directories as a direct means of communicating with viewers.

2. Because the “clarification” that DISH Networks seeks does not appear to be supported by the language of the Commission's 2008 Closed Captioning Order, the Bureau declines to make it. However, the Bureau finds good cause to grant a limited waiver of the telephone directories provisions of amended 47 CFR 79.1. While 47 CFR 79.1(i) is designed to ensure that consumers are readily able to locate contact information for the pursuit of immediate closed captioning concerns or the filing of closed captioning complaints, on balance the Bureau is persuaded that compliance with the telephone directories provisions could be unduly burdensome where a company does not already use telephone directories, particularly for a nationwide company such as DISH Network. Therefore, the Bureau waives amended 47 CFR 79.1 to the extent that it requires VPDs to place the required contact information in local telephone directories in which the VPD does not itself directly advertise or otherwise place commercial listings, so long as the VPD makes the contact information available on its Web site or in billing statements.

3. For purposes of this waiver, the Bureau defines commercial listing to include any paid advertisement or other paid listing. This might include, for example, a paid expanded listing that contains more than merely name, location, and telephone number, or a listing in a larger, bolded, or highlighted font as compared to the standard listing, or the listing of a toll free (rather than local) number. In instances where a VPD has already contracted for a paid advertisement or other paid listing, DISH Network's concern that it would have to establish new relationships with directory publishers is inapplicable, and there is therefore no reason to waive the telephone directory requirement in such situations.

Congressional Review Act (CRA)

On December 5, 2008, OMB concurred that the Order adopting 47 CFR 79.1(i), document FCC 08-255, published at 74 FR 1594, January 13, 2009, was a non-major action pursuant to the CRA. Document DA 10-253 merely waives a specific provision of 47 CFR 79.1(i) and, as such, is not subject to the CRA.

Ordering Clause

Pursuant to sections 4(i) and 713 of the Communications Act of 1934, as amended, 47 U.S.C. 154(i) and 613, 47 CFR 1.3, and the authority delegated pursuant to 47 CFR 0.141 and 0.361, 47 CFR 79.1 (i)(1) and (i)(2) is waived to the extent described herein.

Federal Communications Commission.
Mark Stone,
Deputy Chief, Consumer and Governmental Affairs Bureau.

[FR Doc. 2010-22530 Filed 10-1-10; 8:45 am]

BILLING CODE 6712-01-P